LEGAL SERVICES CORPORATION

Sunshine Act Meeting; Sunshine Act Meeting of the Board of Directors Ad Hoc Committee on Performance Reviews of the President

TIME AND DATE: The Ad Hoc Committee on Performance Reviews of the President of the Legal Services Corporation's Board of Directors will meet on January 26, 2001. The meeting will begin at 4:30 p.m. and continue until conclusion of the committee's agenda.

LOCATION: Embassy Suites Hotel, 300 Tallapoosa Street, Montgomery, AL.

STATUS OF MEETING: Except for approval of the committee's agenda and any miscellaneous business that may come before the committee, the meeting will be closed to the public. The closing is authorized by the relevant provisions of the Government in the Sunshine Act [5 U.S.C. 552b(c)(2) & (6)] and the corresponding provisions of the Legal Services Corporation's implementing regulation [45 CFR § 1622.5(a) & (e)]. A copy of the General Counsel's Certification that the closing is authorized by law will be available upon request.

MATTERS TO BE CONSIDERED:

OPEN SESSION: 1. Approval of agenda.

2. Approval of the minutes of the Committee's meeting of November 10, 2000.

CLOSED SESSION: 3. Consider and act on recommendation to the Board of Directors on the annual evaluation of the President for FY 2000.

OPEN SESSION: 4. Consider and act on other business.

5. Public comment

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Elizabeth S-S Cushing at (202) 336-8800.

Dated: January 18, 2001.
Victor M. Fortuno,
Vice President for Legal Affairs, General Counsel & Corporate Secretary.

[FR Doc. 01-2006 Filed 1-18-01; 2:50 pm]

BILLING CODE 7050-01-P